DEPARTMENT OF THE INTERIOR

Bureau of Land Management

[15XL LLWY9200000.L51010000.ER0000.LVRWK09K0990.241A.00; 4500083323; IDI-35849]

Notice of Availability of the Draft Supplemental Environmental Impact Statement and Draft Land Use Plan Amendments for Segments 8 and 9 of the Gateway West 500-kV Transmission Line Project, Idaho

AGENCY: Bureau of Land Management, Interior.

ACTION: Notice.

SUMMARY: In accordance with the National Environmental Policy Act of 1969, as amended (NEPA), and the Federal Land Policy and Management Act of 1976, as amended (FLPMA), the Bureau of Land Management (BLM) has prepared a Draft Supplemental Environmental Impact Statement (EIS) and Draft Resource Management Plan (RMP) Amendments for the right-of-way (ROW) application for Segments 8 and 9 of the Gateway West 500-kilovolt (kV) Transmission Line Project in Idaho, and by this notice is announcing the opening of the comment period.

DATES: To ensure that comments will be considered, the BLM must receive written comments on the Draft Supplemental EIS and Draft RMP Amendments by June 9, 2016. To provide the public an opportunity to review the proposal and project information, the BLM will hold the following public meetings during the public comment period. Additional announcements about these meetings will be made by news releases to the media, newsletter mailings, and posting on the project Web site listed below.

Tuesday, April 19, 2016

10 a.m.-1 p.m. Boise, Best Western Vista Inn at the Airport, 2645 W. Airport Way, Boise, ID 83705

4 p.m.-7 p.m. Kuna, Kuna Senior Center, 229 N. Ave. A, Kuna, ID 83634

Wednesday, April 20, 2016

4 p.m.-7 p.m. Twin Falls, BLM District Office, 2878 Addison Avenue East, Twin Falls, ID 83301

Thursday, April 21, 2016

4 p.m.-7 p.m. Murphy, Owyhee County Historical Society Museum, 17085 Basey St., Murphy, ID 83650

ADDRESSES: You may submit comments related to the Draft Supplemental EIS and Draft RMP Amendments by any of the following methods:

• Web site: http://www.blm.gov/id/st/en/prog/nepa_register/gateway-west.html

• Email: blm_id_gateway_west@blm.gov

• Mail: Bureau of Land Management Idaho State Office, Gateway West Transmission Project, 1387 South Vinnell Way, Boise, ID 83709.

Copies of the Draft Supplemental EIS and Draft RMP Amendments are available in the BLM Idaho State Office Public Room, at the above address; the BLM Boise District Office, 3948 Development Avenue, Boise, ID 83705; and the BLM Twin Falls District Office, 2878 Addison Avenue East, Twin Falls, ID 83301.

FOR FURTHER INFORMATION CONTACT: Heather Feeney, Public Affairs Specialist, telephone 208-373-4060; address 1387 South Vinnell Way, Boise, ID 83709; email hfeeney@blm.gov. Persons who use a telecommunications device for the deaf (TDD) may call the Federal Information Relay Service (FIRS) at 1-800-877-8339 to contact Mrs. Feeney. The FIRS is available 24 hours a day, 7 days a week, to leave a message or question for Mrs. Feeney. You will receive a reply during normal business hours.

SUPPLEMENTARY INFORMATION: Documents pertinent to this proposal may be examined at:

• Bureau of Land Management, Idaho State Office, Public Room, 1387 South Vinnell Way, Boise, ID 83709, Telephone: 208-373-3863.

• Bureau of Land Management, Boise District Office, 3948 Development Avenue, Boise, ID 83705, Telephone: 208-384-3300.

• Online: http://www.blm.gov/id/st/en/prog/nepa_register/gateway-west.html

PacifiCorp, dba Rocky Mountain Power, and Idaho Power (Applicants) have submitted a ROW application to locate 500 kV- electric transmission lines on Federal lands as part of the Gateway West Transmission Line Project. The initial application proposed to construct electric transmission lines from the Windstar Substation near Glenrock, Wyoming, to the Hemingway Substation near Melba, Idaho, approximately 20 miles southwest of Boise, Idaho. The original project comprised 10 transmission line segments with a total length of approximately 1,000 miles and was analyzed in a Final EIS published in April 2013. The BLM issued a Record of Decision in November 2013 which authorized routes on Federal lands for Segments 1 through 7 and Segment 10 but deferred a decision for Segments 8 and 9.

In August 2014, the BLM received from the Applicants a revised ROW application for Segments 8 and 9 and a revised Plan of Development (POD) for the project. The BLM determined that new information in the revised ROW application and POD, including revised proposed routes for the transmission lines and several modified design features, would require additional NEPA analysis of potential environmental effects to supplement the analysis in the 2013 Final EIS. A Notice of Intent to prepare a Supplemental EIS was published in the Federal Register on September 19, 2014 (79 FR 56399), initiating a 45-day scoping period which included 4 open-house style public meetings in communities in the project area.

The BLM must determine whether to authorize the use of public lands under its management for Segments 8 and 9 of the Gateway West project. The BLM must consider existing RMPs and management framework plans (MFPs) in the decision to issue a ROW grant in accordance with 43 CFR 1610.0-5(b). Portions of the proposed transmission line are not in conformance with several BLM land management plans, and therefore, amendments to these plans are analyzed as part of the Supplemental EIS. In addition, the BLM must ensure that the authorized project would be compatible with the purposes for which the Morley Nelson Snake River Birds of Prey National Conservation Area (SRBOP) is designated in Public Law 103-64 and with current policy for managing units of the National Landscape Conservation System.

This notice announces the availability of the Draft Supplemental EIS for Segments 8 and 9 of the Gateway West Transmission Line Project and begins a 90-day public comment period on the range of alternatives, effects analysis and draft RMP/MFP amendments associated with authorizing the project on BLM-managed lands. Analysis in the Supplemental EIS will support a decision on whether to approve, approve with modifications, or deny the revised ROW application for Segments 8 and 9.

The BLM is the lead Federal agency for the NEPA analysis process and preparation of the supplemental EIS. The State of Idaho and Federal agencies with specialized expertise and/or jurisdictional responsibilities in the area of Segments 8 and 9 are participating as cooperating agencies. Cooperating agencies include the U.S. Fish and Wildlife Service; National Park Service; U.S. Army Corps of Engineers; Idaho State Historic Preservation Office; Idaho Department of Fish and Game; and the Idaho Governor's Office of Energy Resources.

The BLM is also engaging in government-to-government consultations on the Supplemental EIS with the Shoshone-Bannock Tribes of Fort Hall and the Shoshone-Paiute Tribes of Duck Valley, under Federal laws and policies including but not limited to the National Historic Preservation Act, NEPA, Archaeological Resources Protection Act, American Indian Religious Freedom Act, Native American Graves Protection and Repatriation Act, and Executive Orders 12875, 12898, 13007, 13084, and 13175. Relevant issues and concerns that influenced the scope of the environmental analysis in the Draft but which were not addressed in the original EIS were identified during scoping. Alternatives considered in the Draft Supplemental EIS are analyzed based on all the issues included in the 2013 Final EIS (refer to Section 1.10 of the Final EIS), as well as new issues, direction in agency handbooks, and requirements of Federal and State laws and regulations. The following issue categories were identified from public and internal scoping conducted for the Supplemental EIS:

• Air quality and greenhouse gas;

• Agriculture, including effects to farming and dairy operations;

• Cultural resources and historic trails, including Oregon National Historic Trail, Native American cultural sites, Snake River Canyon cultural sites;

• Cumulative effects, especially to native vegetation and sage-grouse habitat;

• Effects on State lands and counties;

• Wildland fire risks;

• Safety, electrical environment and noise;

• Land uses;

• Plants, including invasive species and noxious weeds;

• Threatened, endangered and sensitive species (plants and wildlife);

• Recreation;

• Scenery and visual resources;

• Socioeconomic effects;

• Transportation and travel management;

• Water and riparian resources;

• Wild horses and burros;

• General wildlife and wildlife habitat; and

• Effects to resources, objects and values which the SRBOP enabling statute directs the BLM to conserve, protect and enhance.

The Draft Supplemental EIS analyzes in detail seven pairings of route alternatives for Segments 8 and 9 as Action Alternatives. Analysis of the No Action Alternative, under which the ROW application would be denied and Segments 8 and 9 would not be constructed, is included in the 2013 Final EIS for the original Gateway West project and is incorporated by reference in the Draft Supplemental EIS. In general, routes for Segment 8 are the more northerly of the two. Alternative 1 is the pair of revised proposed routes for Segments 8 and 9, as presented by the Applicants. Alternative 2 pairs the revised proposed route for Segment 8 and the Final EIS proposed route for Segment 9. Alternative 3 is the revised proposed route for Segment 8 and a route designated 9K, which was developed as a result of scoping for the Draft Supplemental EIS. Alternative 4 pairs the Final EIS proposed route for Segment 9 and route designated as 8G, which was developed as a result of scoping for the Draft Supplemental EIS. Alternative 5 pairs routes 8G and 9K. Alternative 6 consists of the Final EIS proposed route for Segment 9 and a Draft Supplemental EIS route 8H. Alternative 7 is routes 8H and 9K. The ROW width requested for all segments is 250 feet, except for Alternative 5, where a 500-foot ROW is required to accommodate two lines at the minimum separation distance. Portions of all route alternatives would cross the SRBOP.

Both segments terminate at the Hemingway substation under all action alternatives. Segments are separated at distances of 250 feet to more than 30 miles, varying within routes and/or across alternatives. The Applicants propose wider separation to increase system reliability. Analysis of several other routes for Segments 8 and 9 in the 2013 Final EIS is carried forward by reference into the Draft Supplemental EIS.

Alternative 1

This alternative represents the routes the Applicants propose in their revised ROW application. Segment 8 of this pairing is similar to the 2013 Final EIS proposed route except that it would parallel an existing 500-kilovolt (kV) line to the north instead of the south, from the point where it would enter the SRBOP to the Hemingway substation. It would cross 17.6 miles of the SRBOP.

Segment 9 of this alternative is proposed to double-circuit the new 500-kV line with existing 138-kV lines for most of the 54.2 miles it would cross the SRBOP. The Draft Supplemental EIS analyzes two variations of the revised proposed route for Segment 9 that were recommended by the BLM Jarbidge Field Office to avoid or minimize impacts to the Toana Freight Wagon Road, a National Register historic site.

Alternative 2

Alignment of Segment 8 under this alternative allows separation from populated areas and existing transmission infrastructure outside the SRBOP to the north while minimizing the disturbance footprint for the segment in the SRBOP (17.6 miles crossed) by paralleling an existing 500-kV line. The alignment for Segment 9 in this pairing is the shortest (162.2 miles) analyzed in the Draft Supplemental EIS for this segment and follows the West-wide Energy Corridor (WWEC) south of the SRBOP. It would cross the SRBOP for 13.6 miles.

Alternative 3

This alternative would allow Segment 8 to be separated from populated areas and existing transmission infrastructure outside the SRBOP to the north while minimizing the disturbance footprint in the SRBOP (17.6 miles crossed) by paralleling an existing 500-kV line. Segment 9 would be routed to avoid impacts to agricultural operations and would cross the SRBOP for 8.7 miles.

Alternative 4

In this pairing, the route for Segment 9 is aligned to the north, while the route for Segment 8 follows the more southerly alignment. Segment 8 is aligned to avoid crossing the northern portion of the SRBOP, the Hagerman Fossil Beds National Monument and development near the town of Hagerman, Idaho. It crosses the SRBOP for 8.8 miles, at the southeast corner of the area. Segment 9 would be routed to avoid impacts to agricultural operations and would cross the SRBOP for 13.6 miles.

Alternative 5

Route 8G is aligned to avoid crossing the northern portion of the SRBOP, the Hagerman Fossil Beds National Monument and development near the town of Hagerman, Idaho. It would cross the southeast corner of the SRBOP for 8.8 miles, at the southeast corner of the area.

Route 9K is also aligned to avoid crossing the SRBOP, especially when paired with 8G, and to minimize direct and indirect impacts to priority Greater sage-grouse habitat. It would cross the southeast corner of the SRBOP for 8.7 miles, at the southeast corner of the area, where it would run parallel to 8G in a 500-foot wide ROW. This alternative makes most use of the reduced mandatory minimum separation distance for transmission lines adopted by the Western Electricity Coordinating Council in 2011 and would involve the shortest crossing of the SRBOP.

Alternative 6

This alternative includes a route for Segment 8 (8H) that follows the 8G alignment for the first 44 miles and then follows the alignment of the revised proposed route for Segment 9 for the remainder of the route to the Hemingway substation. The BLM developed this alternative to depict opportunities for compensatory mitigation in the SRBOP. It would cross the SRBOP for a total of 67.8 miles.

Alternative 7

This alternative pairs two BLM-developed routes: 8H for Segment 8 and 9K for Segment 9. It would cross the SRBOP for a total of 62.9 miles.

Mitigation

The Draft Supplemental EIS incorporates by reference the analysis related to Segments 8 and 9 in the Gateway West 2013 Final EIS, including relevant Proposed Environmental Protection Measures identified in Table 2.7-1 of that document. The Draft Supplemental EIS supplements the analysis found in that Final EIS by assessing new information that has become available since the FEIS and ROD were published, including the identification of new routes and route variations for segments 8 and 9.

All of those new routes and route variations would have some impact on the SRBOP, a National Conservation Area and unit of the National Landscape Conservation System. The Presidential Memorandum on Mitigation (November 3, 2105) requires that agencies “[e]stablish a net benefit goal or, at a minimum, a no net loss goal for natural resources the agency manages that are important, scarce, or sensitive. . .”. The Memorandum further provides that: “[w]hen a resource's value is determined to be irreplaceable, the preferred means of achieving either of these goals is through avoidance, consistent with applicable legal authorities.” Memorandum at section 3(a).

As part of their revised POD, the Applicants have proposed a mitigation and enhancement portfolio (MEP) with design features specific to the SRBOP, aimed at mitigating the effects of project-related impacts within the SRBOP, as well as complying with the SRBOP's enabling statute. The BLM is required under existing policies to determine the measurable environmental impacts of proposed mitigation. The Draft Supplemental EIS analyzes the impacts associated with the MEP, and finds that the MEP does not provide sufficient details or specifics for development of mitigation actions to allow BLM to determine how the MEP goals would be achieved.

Thus, in addition to application of the Proposed Environmental Protection Measures identified in Table 2.7-1 of the Final EIS, the BLM will continue to work with all stakeholders to identify any impacts that would remain on the SRBOP after implementation of the MEP, and to design a mitigation plan that addresses those remaining impacts. This plan will ensure that impacts to resources and values on the SRBOP that require mitigation are fully compensated, and that enhancement of these resources is provided in a manner that complies with all existing policies and the enabling statute of the SRBOP.

The following mitigation categories are among those being considered to address remaining impacts to vegetation resources within the SRBOP:

• Habitat and vegetation restoration efforts;

• Fuels management/fuel breaks

• Wildfire preparedness and suppression;

• Applied research and monitoring to inform adaptive management; and

• Acquisition of private land from willing sellers if found to be appropriate by the Authorizing Officer.

The Draft Supplemental EIS also presents a framework the BLM has developed for assessing compensatory mitigation required under FLPMA and for implementing Bureau and Department of the Interior mitigation policies for mitigation and the Presidential Memorandum on landscape-scale mitigation (November 3, 2015) for impacts to National Historic Trails, cultural resources, wetlands, and resources, objects and values in the SRBOP. The framework discusses avoidance, minimization and compensation measures that would be required under each alternative. Impacts to Greater sage-grouse and migratory birds are addressed in the 2013 Final EIS for the entire, 10-segment project and the 2013 Record of Decision.

Agency Preferred Alternative

In accordance with U.S. Department of the Interior regulations (43 CFR 46.425), the BLM identifies Alternatives 2 and 5 as co-Preferred Alternatives for the purposes of public review and comment. Identification of these alternatives does not represent final agency direction, and the Final Supplemental EIS may reflect changes or adjustments based on information received during public comment on the Draft Supplemental EIS, on new, relevant information acquired after the Draft Supplemental EIS is published, or on changes in BLM policies or priorities. The Final Supplemental EIS may include actions described in the other analyzed alternatives as well.

Alternative 2 would require 12 plan amendments to six current land use plans so that the project would conform to the respective plans. The following land use plans would be amended in a decision selecting Alternative 2:

Twin Falls MFP

Jarbidge RMP (1987, for areas not covered by the 2015 Jarbidge RMP)

Snake River Birds of Prey RMP

Bennett Hills/Timmerman Hills MFP

Kuna MFP

Bruneau MFP.

In order to authorize Segment 8 in this alternative, four land use plans would need to be amended. The Kuna MFP would need an amendment to add a new major transmission line ROW. The SRBOP RMP would need amendments to allow the project within 0.5 mile of sensitive plant habitat, and to designate an additional corridor to include the Summer Lake 500-kV line and one additional 500-kV line. The 1987 Jarbidge RMP would need amendments to reclassify an avoidance/restricted area to allow an overhead 500-kV powerline, to change the cultural resource direction to allow disturbance within 0.5 mile of National-Historic-Trail ruts where visual resources are already compromised, and to change an area of VRM Class I to VRM Class IV, consistent with new policy guidance. The Bennett Hills/Timmerman Hills MFP would need amendments changing VRM Class II area to VRM Class III and changing management direction regarding archaeological sites.

In order to authorize Segment 9 in this alternative, three land use plans would need to be amended. The SRBOP RMP would need an amendment to allow the project within 0.5 mile of sensitive plant habitat (the same amendment as for Segment 8 in this alternative) and to designate an additional corridor to include one additional 500-kV line. The Bruneau MFP would require an amendment to change the classification for a VRM Class II parcel near Castle Creek to VRM Class III. The Twin Falls MFP would need amendments to allow the ROW outside of existing corridors and to reclassify VRM Class I and II areas adjacent to the Roseworth corridor to VRM class III, while allowing a 500-kV line to cross the Salmon Falls Creek Area of Critical Environmental Concern (ACEC).

Alternative 5 would require five plan amendments to three current land use plans so that the project would conform to the respective plans. The following land use plans would be amended in a decision selecting Alternative 5:

Twin Falls MFP

Snake River Birds of Prey RMP

Bruneau MFP.

In order to authorize the Segment 8 alignment in this alternative, two land use plans would need to be amended. The SRBOP RMP would require an amendment to allow an additional ROW and designate an additional corridor for two 500-kV lines, as well as an amendment to allow the project within 0.5 mile of sensitive plant habitat. The Bruneau MFP would also need to be amended to change the classification for a VRM Class II parcel near Castle Creek to VRM Class III. These same amendments to the SRBOP RMP and Bruneau MFP would be needed for Segment 9 in this alternative, as the routes would parallel each other in these planning areas. Authorizing the Segment 9 alignment in this alternative would also require two additional amendments. The Twin Falls MFP would need amendments to allow the ROW outside of existing corridors, and to reclassify VRM Class I and II areas adjacent to the Roseworth corridor to VRM class III, while allowing a 500-kV line to cross the Salmon Falls Creek ACEC.

Please note that public comments and information submitted, including names, street addresses, and email addresses of persons who submit comments, will be available for public review and disclosure at the above ADDRESSES during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Timothy M. Murphy,
BLM Idaho State Director.

[FR Doc. 2016-05572 Filed 3-10-16; 8:45 am]

BILLING CODE 4310-GG-P